FEDERAL MARITIME COMMISSION

Sunshine Act Meetings

TIME AND DATE: October 13, 2021; 10:00 a.m.

PLACE: This meeting will be held by video-conference only.

STATUS: Part of this meeting will be open to the public and will be streamed live, accessible from www.fmc.gov. The rest of the meeting will be closed to the public.

MATTERS TO BE CONSIDERED:

Portions Open to the Public:

1. National Shipper Advisory Committee Update

Portions Closed to the Public

1. Staff Briefing on Ongoing Enforcement Activities

2. Staff Briefing on Vessel-Operating Common Carrier Audit Program

CONTACT PERSON FOR MORE INFORMATION: Rachel Dickon, Secretary, (202) 523-5725.

Rachel Dickon,
Secretary.

[FR Doc. 2021-22115 Filed 10-6-21; 11:15 am]

BILLING CODE 6730-02-P